DEPARTMENT OF DEFENSE

Office of the Secretary

[Transmittal No. 22-38]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 22-38, Policy Justification, and Sensitivity of Technology.

Dated: January 8, 2026.
Stephanie J. Bost,
Alternate OSD Federal Register Liaison Officer, Department of Defense.

BILLING CODE 6001-FR-P

BILLING CODE 6001-FR-C

Transmittal No. 22-38

Notice of Proposed Issuance of Letter of Offer Pursuant to Section 36(b)(1) of the Arms Export Control Act, as amended

(i) Prospective Purchaser: Government of Egypt

(ii) Total Estimated Value:

Major Defense Equipment * | $600 million
Other | $ 30 million
TOTAL | $630 million

Funding Source: National Funds

(iii) Description and Quantity or Quantities of Articles or Services under Consideration for Purchase:

Major Defense Equipment (MDE):

Two thousand one hundred eighty-three (2,183) Hellfire Air-to-Ground Missiles, AGM-114R

Non-Major Defense Equipment:

The following non-MDE items will also be included: spare and repair parts; United States (U.S.) Government technical assistance; integrated logistics support; hardware equipment; technical publications; repair and return services; and other related elements of logistical and program support.

(iv) Military Department: Army (EG-B-VIE)

(v) Prior Related Cases, if any: EG-B-VIP

(vi) Sales Commission, Fee, etc., Paid, Offered, or Agreed to be Paid: None

(vii) Sensitivity of Technology Contained in the Defense Article or Defense Services Proposed to be Sold: See Attached Annex

(viii) Date Report Delivered to Congress: December 20, 2024

* as defined in Section 47(6) of the Arms Export Control Act.

POLICY JUSTIFICATION

Egypt—Hellfire AGM-114R Missiles

The Government of Egypt has requested to buy two thousand one hundred eighty-three (2,183) Hellfire Air-to-Ground Missiles, AGM-114R. The following non-MDE items will also be included: spare and repair parts; U.S. Government technical assistance; integrated logistics support; hardware equipment; technical publications; repair and return services; and other related elements of logistical and program support. The total estimated cost is $630 million.

This proposed sale will support U.S. foreign policy and national security objectives by helping to improve the security of a country that continues to be an important force for political stability and economic growth in the Middle East.

The proposed sale will improve Egypt's capability to meet current and future threats by enhancing Egypt's ability to defend itself against regional malign actors and improve interoperability with systems operated by U.S. forces and other regional security partners. Egypt's continued investment in its defensive capabilities is crucial to protecting its borders, transportation infrastructure, and its residents. Egypt will have no difficulty absorbing Hellfire missiles into its armed forces, as they currently use this munition and require stock replenishment.

The proposed sale of this equipment and support will not alter the basic military balance in the region.

The principal contractor will be Lockheed Martin, located in Orlando, FL. There are no known offset agreements proposed in connection with this potential sale.

Implementation of this proposed sale will not require the assignment of any additional U.S. Government or contractor representatives to Egypt.

There will be no adverse impact on U.S. defense readiness as a result of this proposed sale.

Transmittal No. 22-38

Notice of Proposed Issuance of Letter of Offer Pursuant to Section 36(b)(1) of the Arms Export Control Act

Annex

Item No. vii

(vii) Sensitivity of Technology:

1. The Hellfire Air-to-Ground Missile, AGM-114R, is a precision strike, Semi-Active Laser (SAL)-guided missile and is the principal air-to-ground weapon for the Army. The AGM-114R missile provides the warfighter with an air-to-ground, point-target precision strike capability to defeat advanced armor and an array of traditional and nontraditional targets.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2026-00370 Filed 1-9-26; 8:45 am]

BILLING CODE 6001-FR-P